DEPARTMENT OF HEALTH AND HUMAN SERVICES

Centers for Disease Control and Prevention

[30Day-05-04JK]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210 or send an email to omb@cdc.gov. Send written comments to CDC Desk Officer, Human Resources and Housing Branch, New Executive Office Building, Room 10235, Washington, DC 20503 or by fax to (202) 395-6974. Written comments should be received within 30 days of this notice.

Proposed Project

Cardiovascular Health Branch Management Information System—New—National Center for Chronic Disease Prevention and Health Promotion (NCCDPHP), Centers for Disease Control and Prevention (CDC).

The Cardiovascular Health Branch Management Information System will collect the following in electronic format: (a) Data needed to measure progress by State Heart Disease and Stroke Prevention Programs toward, or achievement of, program performance measures, and (b) information on State Heart Disease and Stroke Prevention Programs currently being reported in hard copy.

In 1998, the U.S. Congress provided funding for the Centers for Disease Control and Prevention (CDC) to initiate a national, state-based heart disease and stroke prevention program. CDC's strategic plan is to implement a comprehensive national heart disease and stroke prevention program that supports state-based programs in all states and territories. In 2003 under Program Announcement 02045, CDC's Cardiovascular Health Branch selected and funded 32 states and the District of Columbia to address heart disease and stroke. Awardees were selected through a competitive peer review process, and the awards are managed as CDC cooperative agreements. Awards are made for five years and may be renewed through a continuation application. This program is authorized under sections 301(a) and 317b(k)(2) of the Public Health Service (PHS) Act, [42 U.S.C. sections 241(a) and 247b(k)(2)], as amended.

All funded programs are required to submit continuation applications and semi-annual progress reports consistent with federal requirements that all agencies, in response to the Government Performance and Results Act of 1993, prepare performance plans and collect program-specific performance measures. There will be two respondents per site.

An internet-based management information system (MIS) will allow CDC to monitor, and report on state Heart Disease and Stroke Prevention Programs more efficiently. Data reported to CDC through the MIS will be used by CDC to identify training and technical assistance needs, monitor compliance with cooperative agreement requirements, evaluate progress made in achieving program-specific goals, and obtain information needed to respond to Congressional and other inquiries regarding program activities and effectiveness. There are no costs to respondents except their time to respond. The total annual burden for this data collection is 396 hours.

Annualized Burden Table
Respondents | Number of respondents | Number of responses per respondent | Average burden per respondent (in hours) | Total burden hours
States and Washington, DC | 66 | 2 | 3 | 396

Dated: December 21, 2004.
B. Kathy Skipper,
Acting Director, Management Analysis and Services Office, Centers for Disease Control and Prevention.

[FR Doc. 04-28613 Filed 12-29-04; 8:45 am]

BILLING CODE 4163-18-P